DEPARTMENT OF ENERGY

Federal Energy Regulatory Commission

Combined Notice of Filings #1

Take notice that the Commission received the following electric rate filings:

Docket Numbers: ER11-47-009; ER12-1540-007; ER12-1541-007; ER12-1542-007; ER12-1544-007; ER14-594-011; ER11-46-012; ER11-41-009; ER12-2343-007; ER13-1896-013; ER16-323-005; ER17-1930-001; ER17-1931-001; ER17-1932-001.

Applicants: Appalachian Power Company, Indiana Michigan Power Company, Kentucky Power Company, Kingsport Power Company, Wheeling Power Company, AEP Texas Inc., Public Service Company of Oklahoma, Southwestern Electric Power Company, Ohio Power Company, AEP Energy Partners, Inc., AEP Retail Energy Partners LLC, AEP Energy, Inc., AEP Generation Resources Inc., Ohio Valley Electric Corporation.

Description: Updated Market Power Analysis in the Southwest Power Pool balancing area authority of the AEP MBR affiliates.

Filed Date: 6/26/18.

Accession Number: 20180626-5244.

Comments Due: 5 p.m. ET 8/27/18.

Docket Numbers: ER11-1858-007.

Applicants: NorthWestern Corporation.

Description: Triennial Market Power Analysis for the Southwest Power Pool Region of NorthWestern Corporation.

Filed Date: 6/26/18.

Accession Number: 20180626-5246.

Comments Due: 5 p.m. ET 8/27/18.

Docket Numbers: ER18-1861-000.

Applicants: New England Power Company.

Description: Tariff Cancellation: Notice of Cancellation of Service Agreement with Wheelabrator Millbury, Inc. to be effective 8/27/2018.

Filed Date: 6/27/18.

Accession Number: 20180627-5047.

Comments Due: 5 p.m. ET 7/18/18.

Docket Numbers: ER18-1862-000.

Applicants: Duke Energy Progress, LLC.

Description: § 205(d) Rate Filing: DEP-Five Towns Reimbursement Agreements to be effective 9/1/2018.

Filed Date: 6/27/18.

Accession Number: 20180627-5067.

Comments Due: 5 p.m. ET 7/18/18.

Docket Numbers: ER18-1863-000.

Applicants: Coolidge Solar I, LLC.

Description: Baseline eTariff Filing: Coolidge Solar I, LLC Application for Market-Based Rate Authority to be effective 8/27/2018.

Filed Date: 6/27/18.

Accession Number: 20180627-5129.

Comments Due: 5 p.m. ET 7/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2018.
Kimberly D. Bose,
Secretary.

[FR Doc. 2018-14567 Filed 7-6-18; 8:45 am]

BILLING CODE 6717-01-P